DEPARTMENT OF COMMERCE

National Oceanic and Atmospheric Administration

Alcoa Point Comfort/Lavaca Bay NPL Site, Point Comfort, TX: Notice of Availability and Request for Comments on a Revised Draft Damage Assessment and Restoration Plan/Environmental Assessment for Recreational Fishing Service Losses

AGENCIES: National Oceanic and Atmospheric Administration (NOAA), Commerce; United States Department of the Interior (DOI); Texas Parks and Wildlife Department (TPWD); Texas General Land Office (TGLO); and Texas Natural Resources and Conservation Commission (TNRCC).

ACTION: Notice of availability of a Revised Draft Damage Assessment and Restoration Plan and Environmental Assessment for recreational fishing service losses associated with the Alcoa Point Comfort/Lavaca Bay National Priorities List (NPL) Site, and of a 30-day period for public comment on the plan beginning May 12, 2000.

SUMMARY: Pursuant to 43 CFR Sections 11.32 and 11.81—.82, notice is hereby given that a document entitled, “Revised Draft Damage Assessment and Restoration Plan and Environmental Assessment for the Point Comfort/Lavaca Bay NPL Site Recreational Fishing Service Losses” (Revised Draft DARP/EA) is available for public review and comment. This document describes revisions to the Draft Damage Assessment and Restoration Plan and Environmental Assessment (Draft DARP/EA), which was released for public review and comment on September 28, 1999. The Draft DARP/EA described the assessment of recreational fishing service losses attributable to hazardous substances released from the Alcoa Point Comfort/Lavaca Bay NPL Site (‘Lavaca Bay Site’ or ‘Site’) and the restoration actions preferred to compensate for those losses. As a result of the public comments received on the Draft DARP/EA, the restoration alternatives identified to compensate for such losses have been revised. The Revised Draft DARP/EA summarizes these public comments and identifies changes to the restoration plan that were determined to be necessary in light of the comments and other information received. The Revised Draft DARP/EA is being released to allow public comment on the revised restoration alternatives now proposed for inclusion in the Final DARP/EA for the recreational fishing service losses.

DATES: Comments on the Revised Draft DARP/EA must be submitted in writing on or before June 12, 2000.

ADDRESSES: Requests for copies of the Revised Draft DARP/EA should be sent to Richard Seiler of TNRCC, MC142, P.O. Box 13087, Austin, TX 78711-3087 or Tony Penn of NOAA, 1305 East West Highway, Station 10218, Silver Spring, MD 20910. Written comments on the plan should be sent either to Richard Seiler of TNRCC or Tony Penn of NOAA at the addresses listed above.

SUPPLEMENTARY INFORMATION: The Alcoa Point Comfort/Lavaca Bay NPL Site is located in Point Comfort, Calhoun County, Texas and encompasses releases of hazardous substances from Alcoa's Point Comfort Operations facility. Between 1948 and the present, Alcoa constructed and operated several types of manufacturing processes at this facility, including aluminum smelting, carbon paste and briquette manufacturing, gas processing, chlor-alkali processing, and alumina refining. Past operations at the facility resulted in the release of hazardous substances into the environment, including the discharge of mercury-containing wastewater into Lavaca Bay from 1966 to 1970 and releases of mercury into the bay through groundwater. In April 1988, the Texas Department of Health (TDH) issued a “closure order” prohibiting the taking of finfish and crabs for consumption from a specific area near the facility due to elevated mercury concentrations in these resources.

The Alcoa Point Comfort/Lavaca Bay Site was added to the NPL, pursuant to Section 105 of the Comprehensive Environmental Response, Compensation and Liability Act (CERCLA), 42 U.S.C. 9601, effective on March 25, 1994 (59 FR 8724; February 23, 1994). The Site was listed primarily due to the presence of mercury in several species of fish and crab in Lavaca Bay, the fishing closure imposed by TDH, and the presence of mercury and other hazardous substances in bay sediments adjacent to the facility. Alcoa, the State of Texas and the U.S. Environmental Protection Agency (EPA) signed an Administrative Order on Consent (AOC) under CERCLA in March 1994 providing for the conduct of a remedial investigation and feasibility study (RI/FS) for the Site.

NOAA, DOI, TPWD, TGLO and TNRCC (collectively, the Trustees) are designated natural resource trustees under Section 107(f) of CERCLA, Section 311 of the Federal Water Pollution and Control Act (FWPCA), 33 U.S.C. Section 1321, and other applicable federal or state laws, including Subpart G of the National Oil and Hazardous Substances Pollution Contingency Plan (NCP), 40 CFR Sections 300.600—300.615. The Trustees are authorized to act on behalf of the public under these authorities to protect and restore natural resources and resource services injured or lost as a result of discharges or releases of hazardous substances.

Paralleling the RI/FS process for the Site, the Trustees have undertaken an assessment of the natural resource injuries and service losses resulting from releases of hazardous substances attributable to the Site and of the restoration actions necessary to address those losses. This assessment process has been aided and supported by Alcoa's cooperation pursuant to a Memorandum of Agreement between Alcoa and the Trustees, which was effective January 14, 1997. Both the Draft DARP/EA and the Revised Draft DARP/EA have been developed under the cooperative assessment framework outlined in the MOA.

The Draft DARP/EA was released for public review on September 28, 1999. That document described the assessment procedures used to define the recreational fishing service losses, including to scale restoration actions, and identified the restoration actions preferred to compensate for those service losses, based on the benefits of restoration to both pier/shore-mode and boat-mode anglers. None of the public comments received on the Draft DARP/EA raised any issue regarding the assessment methodology described therein or the restoration actions proposed to compensate for pier/shore-mode fishing losses. As such, these plan elements will be included in the Final DARP/EA. Significant public comments were received, however, relating to the restoration action proposed in the Draft DARP/EA to address the boat-mode fishing losses and, based upon these comments, the Trustees found it necessary to revise that portion of the plan. The Revised Draft DARP/EA summarizes the public comments received, identifies the revised, preferred restoration alternatives to address the remainder of the recreational fishing service losses, and explains the basis and rationale for that change. The Revised Draft DARP/EA is being released to allow for public review and comment on the preferred restoration alternatives now identified to restore or replace the remainder of the recreational fishing services needed to compensate the public for recreational fishing losses due to the closure.

The Revised Draft DARP/EA does not address any other natural resource injuries or service losses that may be attributable to the Site. Other resource injuries or losses are being considered by the Trustees but will be addressed in one or more subsequent damage assessment and restoration plans.

FOR FURTHER INFORMATION CONTACT: For further information contact: Richard Seiler at (512) 239-2523, email: rseiler@tnrcc.state.tx.us or Tony Penn, at (301) 713-3038 x197, email: tony.penn@noaa.gov

Dated: May 3, 2000.
Captain Ted I. Lillestolen,
Deputy Assistant Administrator for Ocean Services and Coastal Zone Management.

[FR Doc. 00-11512 Filed 5-11-00; 8:45 am]

BILLING CODE 3510-JE-P